DEPARTMENT OF THE TREASURY

Internal Revenue Service

26 CFR Part 1

[TD 9886]

RIN 1545-BJ92

Calculation of UBTI for Certain Exempt Organizations

Correction

In rule document 2019-26274 beginning on page 67370 in the issue of Tuesday, December 10, 2019, make the following correction:

§ 1.512(a)-5 [Corrected]

On page 67373, in the second column, the second amendatory instruction should read as set forth below:

Par. 2. Section 1.512(a)-5 is added to read as follows:

[FR Doc. C1-2019-26274 Filed 12-11-19; 4:15 pm]

BILLING CODE 1301-00-D